DEPARTMENT OF THE INTERIOR

National Park Service

[NPS-WASO-NAGPRA-14190: PPWOCRADN0-PCU00RP14.R50000]

Notice of Inventory Completion: U.S. Department of the Interior, Bureau of Land Management, Nevada State Office, Reno, NV

AGENCY: National Park Service, Interior.

ACTION: Notice.

SUMMARY: The U.S. Department of the Interior, Bureau of Land Management (BLM), Nevada State Office, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human should submit a written request to the BLM. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the BLM at the address in this notice by January 2, 2014.

ADDRESSES: Paul E. Podborny, Field Manager, Schell Field Office, HC 33 Box 33500, Ely, NV 98301, telephone (775) 289-1868, email ppodborny@blm.gov; K. Renee Barlow, Archaeologist/Cultural Resource Specialist, Schell Field Office, HC 33 Box 33500, Ely, NV 98301, telephone (775) 289-1849, email kbarlow@blm.gov.

SUPPLEMENTARY INFORMATION: Notice is here given in accordance with the Native American Graves Protection and Repatriation Act (NAGPRA), 25 U.S.C. 3003, of the completion of an inventory of human remains under the control of the U.S. Department of the Interior, Bureau of Land Management (BLM), Nevada State Office, Reno, NV. The human remains were removed from the Snake Creek Indian Burial Cave, in White Pine County, NV.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by BLM Schell Field Office professional staff in consultation with representatives of the Confederated Tribes of the Goshute Reservation, Nevada and Utah; Duckwater Shoshone Tribe of the Duckwater Reservation, Nevada; Ely Shoshone Tribe of Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada.

History and Description of the Remains

In March, 1980, human remains representing, at minimum, one individual were removed legally from the Snake Creek Indian Burial Cave (site 26WP23) in White Pine County, NV. The BLM Schell Field Office archeologist was monitoring the cave and identified three human bone fragments on the surface below the mouth of the cave, which he felt could possibly be disturbed by recreational caving activities. He collected the remains and sent them to the Nevada State Museum. These remains are cataloged as AHUR 6003 and represent one adult, possibly male. No known individuals were identified. No associated funerary objects were present or observed in association with the human remains.

The burial site is located in a solution karst, or cave with several connected underground chambers and a vertical entrance that requires rappelling in from the ground surface. Entering the cave requires a drop of about 35 feet into the main chamber, and as a result it has been a natural trap for animals since the Pleistocene period. The remains of ice age camel, horse, wolverine, badger, marten, wolf and other locally extinct fauna along with wood and other organic material were recovered from the cave by paleontological research conducted between 1984 and 1988, i.e. after the removal of the human remains reported in this notice. The dates obtained for the extinct horse bones, as well as wood and bat guano, were, respectively, approximately 15,100 BP, 9460 BP, and 7860 BP (Mead and Mead 1989, 1985).

Archeologists in the early to mid-1900s noted cultural materials in the cave and on the ground outside the mouth of the cave. Those materials, including a ladder and pottery, were identified by archeologists in the 1930s and 1950s as “Puebloan,” or likely associated with the Formative period, which includes several nearby sites now known to be large habitation sites associated with the Fremont culture. However, these artifacts have not been re-located, and were not found in association with the human remains reported here.

The cave is located in Shoshone, Western Shoshone, or Niwi Territory, adjacent to a historic Shoshone community in an area near the Nevada-Utah border used traditionally by Shoshone and Goshute peoples (Steward 1938). In addition, the cave was also used historically as a burial place by Goshute and/or Shoshone people. Wheeler (1938) concluded that the cave was a Shoshone burial site, as a “cone” of human remains of Shoshone individuals and their belongings was located immediately below the opening of the cave. Ms. Laura Stark Rainey, a member of the Ely Shoshone Tribe of Nevada, whose uncle lived in Garrison, Utah, relates that the uncle told her that he drove away two archeologists who were removing bodies from the cave and taking everything out of the cave. She believes that this incident occurred circa 1930s (personal communication 2013). Ms. Rainey further reports her uncle as saying he thought the archeologists came back later and removed additional bodies when he wasn't watching. A member of the Cedar Band of Paiute Indians, Ms. Kathleen Gondor remembers her grandfather or great-grandfather saying that the cave was where they buried the last Shoshone or Goshute Chief (personal communication 2013). In addition, representatives of the Confederated Tribes of the Goshute Reservation, Nevada and Utah; Ely Shoshone Tribe of Nevada; and the Duckwater Shoshone Tribe of the Duckwater Reservation, Nevada, have previously indicated that the cave is a sacred place, and a prehistoric burial site (Molenaar 2010).

The overall condition of the human remains, comparisons with past descriptions of human remains in the cave, the context and removal of these bones from the surface of the cave by a BLM archaeologist in 1980, and recommendations made by the archeologist at the time of removal indicate a likely time of deposition and method of burial consistent with the traditional burial practices of Shoshone people.

Determinations Made by the BLM Nevada State Office

Officials of the BLM Nevada State Office have determined that:

• Pursuant to 25 U.S.C. 3001(9), the human remains described in this notice represent the physical remains of one individual of Native American ancestry.

• Pursuant to 25 U.S.C. 3001(2), there is a relationship of shared group identity that can be reasonably traced between the Native American human remains and the Confederated Tribes of the Goshute Reservation, Nevada and Utah; Ely Shoshone Tribe of Nevada; and the Duckwater Shoshone Tribe of the Duckwater Reservation, Nevada.

Additional Requestors and Disposition

Lineal descendants or representatives of any Indian tribe or Native Hawaiian organization not identified in this notice that wish to request transfer of control of these human remains should submit a written request with information in support of the request to Paul E. Podborny, Field Manager, Schell Field Office, HC 33 Box 33500, Ely, NV 98301, telephone (775) 289-1868, email ppodborny@blm.gov, by January 2, 2014. After that date, if no additional requestors have come forward, transfer of control of the human remains to the Confederated Tribes of the Goshute Reservation, Nevada and Utah; Ely Shoshone Tribe of Nevada; and the Duckwater Shoshone Tribe of the Duckwater Reservation, Nevada, may proceed.

The BLM Nevada State Office is responsible for notifying the Confederated Tribes of the Goshute Reservation, Nevada and Utah; Duckwater Shoshone Tribe of the Duckwater Reservation, Nevada; Ely Shoshone Tribe of Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada that this notice has been published.

Dated: September 26, 2013.
David Tarler,
Acting Manager, National NAGPRA Program.

[FR Doc. 2013-28927 Filed 12-2-13; 8:45 am]

BILLING CODE 4312-50-P